DEPARTMENT OF JUSTICE

Federal Bureau of Investigation

[OMB Number 1110-NEW]

Agency Information Collection Activities: Proposed Collection, Comments Requested

ACTION: 60-day Notice of Information Collection Under Review: Establishment and distribution of National Fingerprint Examiners Questionnaire.

The Department of Justice, Federal Bureau of Investigation, Training and Records Testimony Team will be submitting the following information collection request to the Office of Management and Budget (OMB) for review and clearance in accordance with established review procedures of the Paperwork Reduction Act of 1995. The proposed information collection is published to obtain comments from the public and affected agencies. Comments are encouraged and will be accepted until August 22, 2011.

This process is conducted in accordance with 5 CFR 1320.10.

All comments, suggestions, or questions regarding additional information, to include obtaining a copy of the proposed information collection instrument with instructions, should be directed to David R. Cotton, Training Administrator, Federal Bureau of Investigation, Training and Records Testimony Team, Criminal Justice Information Services Division, Clarksburg, West Virginia 26306; facsimile (304) 625-2337.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Identify agencies that provide fingerprint comparisons.

(2) The title of the form/collection: National Fingerprint Examiners Questionnaire.

(3) The agency form number, if any, and the applicable component of the department sponsoring the collection: N/A.

(4) Affected public who will be asked or required to respond, as well as a brief abstract: Primary: Federal, state, and local government law enforcement agencies charged with the responsibility of fingerprint comparison.

(5) An estimate of the total number of respondents and the amount of time estimated for an average respondent to respond: Sampling of one hundred and fifty respondents with a time burden of less than ten minutes per phone call.

(6) An estimate of the total public burden (in hours) associated with this collection: There are approximately 1,500 burden hours associated with this information collection (150 agencies × 10 minutes).

If additional information is required contact: Jerri Murray, Department Clearance Officer, Policy and Planning Staff, Justice Management Division, United States Department of Justice, Two Constitution Square, 145 N Street, NE., Room 2E-808, Washington, DC 20530.

Jerri Murray,
Department Clearance Officer, United States Department of Justice.

[FR Doc. 2011-15336 Filed 6-20-11; 8:45 am]

BILLING CODE 4410-02-P